SECURITIES AND EXCHANGE COMMISSION

[File No. 500-1]

In the Matter of Petro America Corp.; Order of Suspension of Trading

June 18, 2009.

It appears to the Securities and Exchange Commission that there is a lack of current and accurate information concerning the securities of Petro America Corp. (“Petro America”) (trading symbol: PTRZ) because of questions regarding the accuracy and adequacy of assertions by Petro America concerning, among other things: The company's business operations and assets, including regarding its purported oil trading and storage business and holdings, its purported millions of dollars in assets, and its securities issued and outstanding.

The Commission is of the opinion that the public interest and the protection of investors require a suspension of trading in securities related to the above company.

Therefore, it is ordered, pursuant to Section 12(k) of the Securities Exchange Act of 1934, that trading in the securities of the above-listed company is suspended for the period from 9:30 a.m. EDT, June 18, 2009 through 11:59 p.m. EDT, on July 1, 2009.

By the Commission.
Elizabeth M. Murphy,
Secretary.

[FR Doc. E9-14673 Filed 6-18-09; 11:15 am]

BILLING CODE 8010-01-P